DEPARTMENT OF LABOR

Employment and Training Administration

[TA-W-64,744]

Alcoa, Inc., Massena East Plant, Massena, NY; Notice of Termination of Investigation

Pursuant to Section 221 of the Trade Act of 1974, as amended, an investigation was initiated on December 19, 2008, in response to a worker petition filed by a company official on behalf of workers at Alcoa, Inc., Massena East Plant, Massena, New York.

The petitioner has requested that the petition be withdrawn. Consequently, the investigation has been terminated.

Signed at Washington, DC this 27th day of January 2009.
Linda G. Poole,
Certifying Officer, Division of Trade Adjustment Assistance.

[FR Doc. E9-2740 Filed 2-9-09; 8:45 am]

BILLING CODE 4510-FN-P